DEPARTMENT OF COMMERCE

National Oceanic and Atmospheric Administration

RIN 0648-XE209

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific & Statistical Committee to consider actions affecting New England fisheries in the exclusive economic zone (EEZ). Recommendations from this group will be brought to the full Council for formal consideration and action, if appropriate.

DATES: This meeting will be held Tuesday, October 13, 2015, beginning at 9 a.m. and Wednesday, October 14, 2015, beginning at 9 a.m.

ADDRESSES: The meeting will be held at the Providence Biltmore Hotel, 11 Dorrance Street, Providence, RI 02903; phone: (401) 421-0700; fax: (401) 455-3050.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

Tuesday, October 13, 2015

The Committee will review information provided by the Council's Scallop PDT and recommend the overfishing levels (OFLs) and acceptable biological catches (ABC) for Atlantic sea scallops for fishing years 2016 and 2017.

The Committee will also review recent stock assessment information from the 2015 Groundfish Operational Assessments updates and information provided by the Council's Groundfish Plan Development Team (PDT) and recommend the overfishing levels (OFLs) and acceptable biological catches (ABCs) for all groundfish stocks (except for Georges Bank yellowtail flounder) managed under the Northeast Multispecies Fishery Management Plan for fishing years 2016-18.

Wednesday, October 14, 2015

The Committee will continue to review information on and develop recommendations for OFLs and ABC for Northeast multispecies groundfish for fishing years 2016-18 and address other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: September 21, 2015.
Tracey L. Thompson,
Acting Deputy Director, Office of Sustainable Fisheries, National Marine Fisheries Service.

[FR Doc. 2015-24254 Filed 9-23-15; 8:45 am]

BILLING CODE 3510-22-P